DEPARTMENT OF COMMERCE

International Trade Administration

[A-570-803]

Heavy Forged Hand Tools from the People's Republic of China: Partial Rescission of Antidumping Duty Administrative Review

AGENCY: Import Administration, International Trade Administration, Department of Commerce.

ACTION: Notice of Rescission of Antidumping Duty Administrative Review.

EFFECTIVE DATE: January 3, 2003.

FOR FURTHER INFORMATION CONTACT: Thomas Martin or Thomas Futtner, AD/CVD Enforcement, Office 4, Group II, Import Administration, International Trade Administration, U.S. Department of Commerce, 14th Street and Constitution Avenue, NW, Washington, DC 20230; telephone: (202) 482-3936 and (202) 482-3814, respectively.

SUPPLEMENTARY INFORMATION:

Background

On February 1, 2002, the Department of Commerce (the Department) published a notice of opportunity to request administrative reviews of the antidumping duty orders on heavy forged hand tools from the People's Republic of China covering the period February 1, 2001 through January 31, 2002 (67 FR 4945). On February 28, 2002, Tianjin Machinery Import & Export Corporation (TMC), Shandong Machinery Import & Export Corporation (SMC), and Liaoning Machinery Import & Export Corporation (LMC) requested administrative reviews in the above-referenced proceedings. Specifically, TMC requested reviews of the hammers/sledges, bars/wedges, picks/mattocks and axes/adzes orders, SMC requested reviews of the hammers/sledges, bars/wedges, picks/mattocks orders, and LMC requested a review of the bars/wedges order. Based on these requests, the Department initiated the current administrative reviews of TMC, SMC and LMC under the requested orders on March 20, 2002. See Initiation of Antidumping and Countervailing Duty Administrative Reviews and Requests for Revocations in Part, 67 FR 14696 (March 27, 2002). The petitioner, Ames True Temper, did not submit any requests for reviews of these orders.

On May 3, 2002, LMC withdrew its request for review of the bars/wedges order. On May 10, 2002, TMC withdrew its requests for review of the hammers/sledges and picks/mattocks orders. On June 7, 2002, SMC withdrew its request for review under the picks/mattocks order. Additionally, on September 26, 2002, TMC withdrew its requests for review of the axes/adzes order and bars/wedges order, and SMC withdrew its requests for review of the bars/wedges and hammers/sledges orders.

On October 9, 2002, the petitioner filed comments in opposition to these withdrawal requests made on September 26, 2002.

Rescission of Review

According to 19 CFR 351.213(d)(1), the Department will rescind an administrative review if the party that requested the review withdraws its requests within 90 days of the date of publication of the notice of initiation of such review, or at a later date if the Department determines that such an extended time is reasonable. TMC's withdrawal requests for the reviews of the axes/adzes and bars/wedges orders, and SMC's withdrawal requests for reviews of the bars/wedges and hammers/sledges orders were submitted after the 90 day deadline provided by 19 CFR 351.213(d)(1). We note, however, section 351.213(d)(1) permits the Department to extend the deadline if “it is reasonable to do so.” The Department has determined that a deadline extension is reasonable in the instant review. See Memorandum from Holly Kuga to Bernard T. Carreau, dated December 24, 2002, on file in the Central Records Unit (CRU) located in B-099 of the main Department of Commerce building. Therefore, the Department is rescinding the current administrative reviews of the orders on heavy forged hand tools with respect to TMC, SMC and LMC covering the period, February 1, 2001, through January 31, 2002 .

This notice is in accordance with section 777(i)(1) of the Act and 19 CFR 351.213(d)(4).

Dated: December 24, 2002.
Holly A. Kuga,
Acting Deputy Assistant Secretary for Import Administration.

[FR Doc. 03-77 Filed 1-2-03; 8:45 am]

BILLING CODE 3510-DS-S